DEPARTMENT OF DEFENSE

Department of the Army

Board of Visitors, United States Military Academy (USMA)

AGENCY: Department of the Army, DoD.

ACTION: Notice of open meeting.

SUMMARY: In accordance with section 10(a)(2) of the Federal Advisory Committee Act (Pub. L. 92-463), announcement is made of the following committee meeting:

Name of Committee: Board of Visitors, United States Military Academy.

Date: Friday, September 16, 2005.

Place of Meeting: Superintendent's Conference Room, Taylor Hall, 2nd floor, Bldg 600, West Point, NY.

Start Time of Meeting: Approximately 1 p.m.

FOR FURTHER INFORMATION CONTACT: Lieutenant Colonel Shaun T. Wurzbach, United States Military Academy, West Point, NY 10996-5000, (845) 938-4200.

SUPPLEMENTARY INFORMATION: Proposed Agenda: Annual Fall Meeting of the Board of Visitors. Review of the Academic, Military and Physical Programs at the USMA. Sub Committee meetings on Academics, Military/Physical and Quality of Life to be held prior to Annual Fall Meeting.

Brenda S. Bowen,
Army Federal Register Liaison Officer.

[FR Doc. 05-15987 Filed 8-11-05; 8:45 am]

BILLING CODE 3210-08-M